DEPARTMENT OF DEFENSE

Department of the Air Force

Notice of Intent to Prepare an Environmental Impact Statement (EIS) for Jinapsan Beach Properties Access, Guam

Pursuant to the National Environmental Policy Act (NEPA) of 1969, as amended (42 U.S.C. 4321, et seq.), the Council on Environmental Quality (CEQ) Regulations for Implementing the Procedural Provisions of NEPA (40 CFR 1500 to 1508), and Air Force policy and procedures (32 CFR 989), the U.S. Air Force intends to prepare an EIS to consider the potential environmental impacts of providing an easement for access to the Jinapsan Beach Properties on the island of Guam. The U.S. Fish and Wildlife Service (Service) has been invited to serve as a cooperating agency for this action.

The Air Force proposes to analyze a Proposed Action easement, an alternative easement route, and the No-Action Alternative as required by NEPA. The Proposed Action involves the granting of a 30-foot wide easement for the construction of a 24-foot wide access road with 3-foot shoulders (incorporating a 3-foot utility corridor) to the Jinapsan Beach property. The Proposed Action easement route crosses a portion of Northwest Field on Andersen Air Force Base (AFB). The easement passes north of the training exercise areas and runways before reaching the cliff face south of Pajon Point. The easement then proceeds down the cliff face between Pajon Point and Jinapsan Point to the south with a maximum grade of approximately 12 percent before reaching the Jinapsan properties at the foot of the cliff.

The alternative action easement also involves the granting of a 30-foot wide easement for the construction of a 24-foot wide access road with 3-foot shoulders (incorporating a 3-foot utility corridor) to the Jinapsan Beach property. This alternative accesses the Jinapsan Beach properties by using the existing road to the Guam National Wildlife Refuge Ritidian Point Unit. The easement would leave the existing road near the bottom of the cliff area at a point approximately 400 meters inside the main gate to the Refuge. From that point the easement would continue around Ritidian Point and then southeast along the coast past Pajon Point to the Jinapsan properties.

Under the No Action alternative, access would continue to be via the Main Gate at Andersen AFB with a route that passes near operational areas and through Tarague Beach to reach the Jinapsan Beach properties.

To provide a forum for public officials and for the community to provide information and comments on the project, the Air Force and the Service are holding two public scoping meetings on Wednesday, August 30, 2000. Both meetings will be held in the Building B Lecture Hall in the College of Arts and Sciences at the University of Guam. The first meeting will be from 2:00 to 4:00 p.m. and the second will be from 6:00 to 8:00 p.m.

The purpose of these meetings is to present information concerning the proposed action and alternatives under consideration and solicit public input on the scope of issues to be addressed in the EIS. The Air Force and Service will accept comments at the address below at any time during the environmental impact analysis process. However, to ensure the Air Force and the Service have sufficient time to consider public input in the preparation of the Draft EIS, comments should be submitted to the address below by October 13, 2000.

Please direct written comments or requests for further information concerning the Jinapsan Beach Properties Access EIS to Mr. Jonathan D. Farthing, HQ AFCEE/ECA, 3207 North Road, Brooks AFB, TX 78235-5363, (210) 536-3668.

Janet A. Long
Air Force Federal Register Liaison Officer.

[FR Doc. 00-20661 Filed 8-14-00; 8:45 am]

BILLING CODE 5001-05-P